NUCLEAR REGULATORY COMMISSION

[NRC-2009-0263]

Assuring the Availability of Funds for Decommissioning Nuclear Reactors

AGENCY: Nuclear Regulatory Commission.

ACTION: Regulatory guide; issuance.

SUMMARY: The U.S. Nuclear Regulatory Commission (NRC or Commission) is issuing a revision to Regulatory Guide 1.159, “Assuring the Availability of Funds for Decommissioning Nuclear Reactors.” This guide provides guidance to applicants and licensees of nuclear power, research, and test reactors concerning methods acceptable to the staff of the U.S. Nuclear Regulatory Commission (NRC) for complying with requirements in the rules regarding the amount of funds for decommissioning. It also provides guidance on the content and form of the financial assurance mechanisms in those rule amendments.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The regulatory guide is available electronically under ADAMS Accession Number ML112160012. The regulatory analysis may be found in ADAMS under Accession Number ML112160013.

• Federal Rulemaking Web Site: Public comments and supporting materials related to this notice can be found at http://www.regulations.gov by searching on Docket ID NRC-2009-0263.

Regulatory guides are not copyrighted, and NRC approval is not required to reproduce them.

FOR FURTHER INFORMATION CONTACT: Edward O'Donnell, Regulatory Guide Development Branch, Division of Engineering, Office of Nuclear Regulatory Research, U.S. Nuclear Regulatory Commission, Washington, DC 20555-0001, telephone: 301-251-7655; e-mail: Edward.Odonnell@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

As a guidance document, this regulatory guide and its provisions are not designed to be restrictive or to represent binding requirements. The guide presents methods acceptable to the NRC staff for complying with the decommissioning regulations. The NRC staff recognizes that, in certain circumstances (e.g., to meet requirements established by Federal or state economic regulatory agencies or to comply with other applicable laws), other approaches may be necessary. As a point of clarification, it is the NRC's position that licensees who have existing license conditions relating to topics covered by the final rule, “Decommissioning Trust Provisions,” dated December 24, 2002 (67 FR 78332), will have the option of maintaining their existing license conditions or submitting to the new requirements.

II. Further Information

Revision 2 of Regulatory Guide 1.159 was issued with a temporary identification as Draft Regulatory Guide, DG-1229. DG-1229, was published in the Federal Register on June 30, 2009 (74 FR 31317) for a 60 days public comment period. The public comment period closed on September 9, 2009. The Commission approved RG 1.159 subject to changes which are spelled out in a Staff Requirements Memorandum dated October 25, 2010 (ML1029805650). Because of the nature of the changes, the draft guide was reissued for comment on January 13, 2011 (76 FR 2425). The NRC staff's responses to the public comments on DG-1229 are available under ADAMS Accession Number ML112160035.

Dated at Rockville, Maryland, this 13th day of October, 2011.
For the Nuclear Regulatory Commission.
Harriet Karagiannis,
Acting Chief, Regulatory Guide Development Branch, Division of Engineering, Office of Nuclear Regulatory Research.

[FR Doc. 2011-27338 Filed 10-20-11; 8:45 am]

BILLING CODE 7590-01-P